Title 3—

The President

Proclamation 10426 of July 25, 2022

Anniversary of the Americans With Disabilities Act, 2022

By the President of the United States of America

A Proclamation

On July 26, 1990, with the signing into law of the Americans with Disabilities Act (ADA), our Nation created the world's first comprehensive declaration of equality for people with disabilities. Since that time, this landmark legislation has been a driving force in moving America closer to the promise of equal opportunity, full participation, independent living, and economic self-sufficiency for the 61 million individuals with disabilities in our country. The ADA prohibits disability discrimination by State and local governments; provides standards for access to places of public accommodation; protects people with disabilities from discrimination in the workplace; and ensures equal access to health care, social services, transportation, and telecommunications. But even more than that, it enshrines the idea—central to the spirit of our Nation—that all of us are deserving of equal dignity, respect, and opportunity.

I was enormously proud to co-sponsor the ADA when I served in the United States Senate, and over the past 32 years, I have seen firsthand how it has improved the lives of countless Americans. Because of the ADA, generations of people with disabilities have grown up with the assurance that they are accorded the same rights and chances as their non-disabled peers—and our communities, our economy, and our country are all stronger as a result.

Despite the progress we have made through the years, our work is far from over. Many individuals still face barriers to inclusion and equitable access in our society. That is why advancing equity and equal opportunity for people with disabilities has been a priority of mine since taking office. My Administration has made sure that the Department of Justice has the resources it needs to vigorously enforce the Supreme Court's decision in Olmstead v. L.C. We are working to expand access to the integrated, long-term services and supports that make it possible for disabled individuals to live and thrive in their communities, including significant funding from the Bipartisan Infrastructure Law to improve accessibility for people with disabilities. We are connecting disabled Americans to affordable accessible housing. My Administration is also working to expand opportunities for employment for people with disabilities and providing resources so that employers can make their workplaces more inclusive.

I also remain committed to ensuring that all children and educators have the resources they need to thrive in the classroom. That is why the American Rescue Plan provided $3 billion for disabled students to receive equitable, high-quality, and inclusive services. My Administration has also developed guidance to help children with disabilities who were disproportionately impacted by remote learning return to school safely.

As my Administration continues its work to address the COVID-19 pandemic, we recognize the long-standing health disparities and systemic discrimination faced by the disabled community. The pandemic has had an especially significant impact on the lives and independence of Americans with disabilities and has also been the cause of disability for many individuals.

As we celebrate the legacy of the ADA, let us take this opportunity to reflect on the progress we have made and renew our commitment to achieving the ADA's full promise of advancing disability equity, dignity, access, and inclusion.

NOW, THEREFORE, I, JOSEPH R. BIDEN JR., President of the United States of America, by virtue of the authority vested in me by the Constitution and the laws of the United States, do hereby proclaim July 26, 2022, the Anniversary of the Americans with Disabilities Act. I encourage Americans to celebrate the 32nd year of this defining moment in Civil Rights law and the essential contributions of individuals with disabilities for our Nation.

IN WITNESS WHEREOF, I have hereunto set my hand this twenty-fifth day of July, in the year of our Lord two thousand twenty-two, and of the Independence of the United States of America the two hundred and forty-seventh.

[FR Doc. 2022-16333

Filed 7-27-22; 8:45 am]

Billing code 3395-F2-P